DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2003, there were eight applications approved. Additionally, 18 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of section 158.29.

PFC Applications Approved

Public Agency: Wood County Airport Authority, Parkersburg, West Virginia.

Application Number: 03-02-C-00-PKB.

Application Type: Impose and use a PFC.

PFC Level: $4.50.

Total PFC Revenue Approved in this Decision: $286,543.

Earliest Charge Effective Date: August 1, 2003.

Estimated Charge Expiration Date: February 1, 2009.

Class of Air Carriers not Required to Collect PFC's:

Classes of Air Carriers not Required to Collect PFC's:

(1) All air carriers operating under Part 135; (2) all air carriers operating under Part 91; (3) any unscheduled carriers operating under Part 121.

Determination: Approved. Based on information contained in the public agency's application, the FAA has determined that each proposed class accounts for less than 1 percent of the total annual enplanements at Wood County Airport.

Brief Description of Projects Approved for Collection and Use at a $4.50 PFC Level:

Terminal improvements.

Airfield drainage improvements.

Aircraft parking apron rehabilitation.

Master plan update.

Purchase snow removal equipment.

Terminal/security improvements.

Rehabilitate runway 3/21.

Decision Date: June 2, 2003.

For Further Information Contact: Matthew DiGiulian, Beckley Airports Field Office, (304) 252-6216.

Public Agency: Lehigh-Northampton Airport Authority, Allentown, Pennsylvania.

Application Number: 03-06-C-00-ABE.

Application Type: Impose and use a PFC.

PFC Level: $4.50.

Total PFC Revenue Approved in this Decision: $3,135,365.

Earliest Charge Effective Date: September 1, 2003.

Estimated Charge Expiration Date: March 1, 2005.

Class of Air Carriers not Required to Collect PFC's: Air taxi/commercial operators.

Determination: Approved. Based on information contained in the public agency's application, the FAA has determined that the proposed class accounts for less than 1 percent of the total annual enplanements at Lehigh Valley International Airport.

Brief Description of Projects Approved for Collection and Use at a $4.50 PFC Level:

Loading bridges—post concourse.

Loading bridges—regional jet modifications.

Design and construct airfield electrical vault.

Design and construct aircraft rescue and firefighting facility.

Airfield security perimeter fencing.

Runway protection zone land acquisition, runway 24, and land acquisition in transitional surface.

Noise mitigation—sound insulation ((phase II).

Land acquisition, runway 6-24 noise.

Design and construct air cargo apron—phase II.

Noise mitigation—sound insulation.

Taxiway A rehabilitation.

General aviation apron.

Decision Date: June 6, 2003.

For Further Information Contact; Lori Ledebohm, Harrisburg Airports District Office, (717) 730-2835.

Public Agency: Salt Lake City Department of Airports, Salt Lake City, Utah.

Application Number: 03-06-C-00-SLC.

Application Type: Impose and use a PFC.

PFC Level: $4.50.

Total PFC Revenue Approved in this Decision: $39,756,400.

Earliest Charge Effective Date: February 1, 2003.

Estimated Charge Expiration Date: June 1, 2004.

Class of Air Carriers not Required to Collect PFC's; Air taxi/commercial operators filing FAA Form 1800-31.

Determination: Approved. Based on information contained in the public agency's application, the FAA has determined that the proposed class accounts for less than 1 percent of the total annual enplanements at Salt Lake City International Airport (SLC).

Brief Description of Projects Approved for Collection at SLC and Use at SLC at a $4.50 PFC Level:

Concourse A apron expansion.

Concourse A apron expansion.

Concourse A apron reconstruction, phase I.

Concourse A apron reconstruction, phase II.

Deicing lagoon upgrade.

Security identification display area perimeter patrol road, phase I.

Security identification display area perimeter patrol road, phase II.

Taxiway H reconstruction H10-H12.

Taxiway H reconstruction H7-H10.

Terminal unit 2 checked baggage and screening checkpoint queuing modifications.

Concourse E SkyWest interim facility.

Land acquisition for approach protection and noise compatibility, phase I.

Terminal roadway security improvements, phase II.

Taxiway H pavement reconstruction H2-H4.

Runway 16L/34R overlay.

North support tunnel road rehabilitation.

Taxiway P extension.

Blast analysis study.

Security detection equipment modifications.

Security gate modifications.

Brief Description of Project Partially Approved for Collection at SLC and Use at SLC at a $4.50 PFC Level:

Maintenance equipment (snow removal equipment and aircraft rescue and firefighting equipment).

Determination: Six proposed vehicles did not meet eligibility requirements and were disapproved. One aircraft rescue and firefighting vehicle exceeded the minimum size of equipment required. A smaller size vehicle, meeting minimum requirements was approved in its place.

Brief Description of Projects Approved for Collection at SLC and Use at SLC at A $3.00 PFC Level:

Airport layout plan/environmental update, phase I.

Electronic visual information display system installation.

East apron rehabilitation, phase II.

East apron rehabilitation, phase III.

Surface condition analyzer upgrade.

Mechanical plant security upgrades.

Unattended baggage storage area.

Terminal One bag carousel modifications.

Terminal access road reconfiguration.

Brief Description of Project Approved for Collection at SLC and Use at Salt Lake Airport II at a $3.00 PFC Level:

Airport II runway overlay.

Brief Description of Project Approved for Collection at SLC and Use at Tooele Valley Airport at a $3.00 PFC Level:

Runway 16/34 widening and extension.

Brief Description of Disapproved Project:

East side oil/water separator.

Determination: The FAA has determined that the project does not meet any of the objectives of section 158.15(a). The public agency did not provide documentation regarding project justification, nor did it demonstrate compliance with Advisory Circular 150/5320-15 for water quality equipment.

Decision Date: June 11, 2003.

For Further Information Contact: Christopher J. Schaffer, Denver Airports District Office, (303) 342-1258.

Public Agency: City of Roswell, New Mexico.

Application Number: 03-02-C-00-ROW.

Application Type: Impose and use a PFC.

PFC Level: $4.50

Total PFC Revenue Approved in this Decision: $134,082.

Earliest Charge Effective Date: February 1, 2004.

Estimated Charge Expiration Date: May 1, 2006.

Classes of Air Carriers not Required to Collect PFC's: None.

Brief Description of Projects Approved for Collection and Use:

Reconstruct runway 17/35.

PFC application and administrative fees.

Brief Description of Withdrawn Projects:

Aircraft rescue and firefighting access roads.

Airfield safety improvements.

Install precision approach path indicator/runway end identifier lights for runways 3 and 17/35.

Replace runway 17/35 shoulders.

Determination: These projects were withdrawn by the public agency before the FAA's decision was issued.

Decision Date: June 12, 2003.

For Further Information Contact: G. Thomas Wade, Southwest Region Airports Division, (817) 222-5613.

Public Agency: Delta County, Escanaba, Michigan.

Application Number: 03-07-C-00-ESC.

Application Type: Impose and use a PFC.

PFC Level: $4.50.

Total PFC Revenue Approved in this Decision: $40,000.

Earliest Charge Effective Date: March 1, 2004.

Estimated Charge Expiration Date: January 1, 2006.

Classes of Air Carriers not Required to Collect PFC's: (1) Air taxis; (2) charters.

Determination: Approved. Based on information contained in the public agency's application, the FAA has determined that each proposed class accounts for less than 1 percent of the total annual enplanements at Delta County Airport.

Brief Description of Project Approved for Collection and Use at a $4.50 PFC Level:

Expand terminal parking lot.

Relocate airport access road.

Brief Description of Project Approved for Use at a $3.00 PFC Level:

Construct runway safety area for runway 9.

Decision Date: June 25, 2003.

For Further Information Contact: Arlene B. Draper, Detroit Airports District Office, (734) 487-7282.

Public Agency: Port of Port Angeles, Washington.

Application Number: 03-06-C-00-CLM.

Application Type: Impose and use a PFC.

PFC Level: $3.00.

Total PFC Revenue Approved in this Decision: $313,484.

Earliest Charge Effective Date: October 1, 2003.

Estimated Charge Expiration Date: June 1, 2008.

Class of Air Carriers not Required to Collect PFC's: None.

Brief Description of Projects Approved for Collection and Use:

Drainage system construction.

General aviation site development.

Obstruction removal.

Taxiway restriping and reflector installation.

Runway 26 safety area improvement.

Decision Date: June 27, 2003.

For Further Information Contact: Suzanne Lee-Pang, Seattle Airports District Office, (425) 227-2654.

Public Agency: County of Marquette, Gwinn, Michigan.

Application Number: 03-07-C-00-SAW.

Application Type: Impose and use a PFC.

PFC Level: $4.50.

Total PFC Revenue Approved in this Decision: $545,520.

Earliest Charge Effective Date: June 1, 2004.

Estimated Charge Expiration Date: March 1, 2006.

Class of Air Carriers not Required to Collect PFC's: None.

Brief Description of Projects Approved for Collection and Use:

Construct automatic weather observation system.

Furnish and install an instrument landing system.

Furnish and install a beacon.

Furnish and install precision approach path indicator and runway end identifier lights.

Taxiway shoulder repair.

PFC audit fees.

Provide new aircraft rescue and firefighting vehicle and snow removal equipment building.

Snow removal equipment.

Decision Date: June 30, 2003.

For Further Information Contact: Arlene B. Draper, Detroit Airports District Office, (734) 229-2929.

Public Agency: County of Milwaukee, Wisconsin.

Application Number: 03-08-U-00-MKE.

Application Type: Use PFC revenue.

PFC Level: $3.00.

Total PFC Revenue to be Used in this Decision: $74,714,258.

Charge Effective Date: May 1, 2004.

Estimated Charge Expiration Date: December 1, 2011.

Class of Air Carriers not Required to Collect PFC's: No change from previous decision.

Brief Description of Project Approved for Use:

C concourse stem and 6-gate expansion.

Decision Date: June 30, 2003.

For Further Information Contact: Sandra E. DePottey, Minneapolis Airports District Office, (612) 713-4363.

Amendments to PFC approvals

Amendment No. city, state | Amendment approved date | Original approved net PFC revenue | Amended approved net PFC revenue | Original estimated charge exp. date | Amemded estimated charge exp. date
01-02-C-01-HRL Harlingen, TX. | 05/27/03 | $5,032,330 | $6,025,961 | 02/01/06 | 06/01/07
93-01-C-01-LAX Los Angeles, CA. | 06/02/03 | $116,109,000 | $116,370,846 | 01/01/96 | 01/01/96
96-02-U-01-LAX Los Angeles, CA. | 06/02/03 | NA | NA | 01/01/96 | 01/01/96
93-01-I-02-ONT Ontario, CA. | 06/02/03 | 33,148,439 | 27,333,931 | 12/01/96 | 12/01/96
95-02-U-01-ONT Ontario, CA. | 06/02/03 | NA | NA | 12/01/96 | 12/01/96
01-02-C-02-SDF Louisville, KY. | 06/02/03 | 15,789,940 | 10,732,140 | 04/01/18 | 04/01/17
01-02-C-01-BJI Bemidji, MN. | 06/10/03 | 201,952 | 416,452 | 10/01/03 | 08/01/05
01-04-C-01-DAY Dayton, OH. | 06/10/03 | 64,544,267 | 63,946,085 | 12/01/13 | 12/01/13
02-05-C-01-MSY New Orleans, LA. | 06/12/03 | 148,665,172 | 135,190,660 | 04/01/05 | 07/01/03
97-02-C-02-TYR Tyler, TX. | 06/13/03 | 1,166,292 | 1,046,577 | 01/01/03 | 09/01/03
93-01-C-14-ORD Chicago, IL. | 06/19/03 | 1,145,473,994 | 1,155,421,243 | 12/01/05 | 04/01/04
95-03-C-06-ORD Chicago, IL. | 06/19/03 | NA | NA | 12/01/05 | 04/01/04
96-05-C-08-ORD Chicago, IL. | 06/19/03 | 467,714,130 | 467,714,130 | 04/01/08 | 04/01/08
92-01-C-06-DTW Detroit, MI. | 06/20/03 | 1,604,483,000 | 2,198,215,360 | 05/01/18 | 05/01/26
96-02-U-01-DTW Detroit, MI. | 06/20/03 | NA | NA | 05/01/18 | 05/01/26
97-03-C-03-DTW Detroit, MI. | 06/20/03 | 54,967,000 | 54,967,000 | 10/01/29 | 10/01/29
96-05-C-01-SMF Sacramento, CA. | 06/25/03 | 62,823,190 | 48,223,407 | 08/01/06 | 01/01/06
00-06-C-01-SMF Sacramento, CA. | 06/25/03 | 115,700,000 | 115,700,000 | 11/01/13 | 03/01/11

Dated: Issued in Washington, DC on August 1, 2003
Barry Molar,
Manager, Airports Financial Assistance Division.

[FR Doc. 03-20411 Filed 8-8-03; 8:45 am]

BILLING CODE 4910-13-M